OCCUPATIONAL SAFETY AND HEALTH REVIEW COMMISSION

Senior Executive Service Performance Review Board Membership

AGENCY: Occupational Safety and Health Review Commission.

ACTION: Annual Notice.

SUMMARY: Notice is given under 5 U.S.C. 4314(c)(4) of the appointment of members to the Performance Review Board (PRB) of the Occupational Safety and Health Review Commission.

DATES: Membership is effective on March 11, 2019.

FOR FURTHER INFORMATION CONTACT: Linda M. Beard, Human Resources Specialist, U.S. Occupational Safety and Health Review Commission, 1120 20th Street NW, Washington, DC 20036, (202) 606-5393.

SUPPLEMENTARY INFORMATION: The Review Commission, as required by 5 U.S.C. 4314(c)(1) through (5), has established a Senior Executive Service PRB. The PRB reviews and evaluates the initial appraisal of a senior executive's performance by the supervisor, and makes recommendations to the Chairman of the Review Commission regarding performance ratings, performance awards, and pay-for-performance adjustments. Members of the PRB serve for a period of 24 months. In the case of an appraisal of a career appointee, more than half of the members shall consist of career appointees, pursuant to 5 U.S.C. 4314(c)(5). The names and titles of the PRB members are as follows:

• Rachel Leonard, General Counsel of the President, Office of Science and Technology Policy Eisenhower Executive Office Building (EEOB);

• Mary Thien Hoang, Chief of Staff Federal Maritime Commission; and

• Ted Wackler, P.E. Deputy Chief of Staff, Executive Office of the President, Office of Science and Technology Policy Eisenhower Executive Office Building (EEOB).

Dated: February 27, 2019.
Heather L. MacDougall,
Chairman.

[FR Doc. 2019-04235 Filed 3-8-19; 8:45 am]

BILLING CODE 7600-01-P